CORPORATION FOR NATIONAL AND COMMUNITY SERVICE

Proposed Information Collection; Comment Request

AGENCY: Corporation for National and Community Service.

ACTION: Notice.

SUMMARY: The Corporation for National and Community Service (hereinafter the “Corporation”), as part of its continuing effort to reduce paperwork and respondent burden, conducts a preclearance consultation program to provide the general public and Federal agencies with an opportunity to comment on proposed and/or continuing collections of information in accordance with the Paperwork Reduction Act of 1995 (PRA95) (44 U.S.C. Sec. 3506(c)(2)(A)). This program helps to ensure that requested data can be provided in the desired format, reporting burden (time and financial resources) is minimized, collection instruments are clearly understood, and the impact of collection requirement on respondents can be properly assessed. This form is available in alternate formats. Individuals who use a telecommunications device for the deaf (TTY/TDD) may call (202) 606-5256 between the hours of 9:00 a.m. and 4:30 p.m. Eastern time, Monday through Friday.

Currently, the Corporation is soliciting comments concerning a web-based senior service recruitment system, called “Join Senior Service Now” (JASON), that will enable older Americans who are interested in volunteering to match their interests and talents with community homeland security and other critical community needs that have been identified by local National Senior Service Corps (Senior Corps) grant projects. Use of the system is entirely voluntary. This system was deployed April 3, 2002, under emergency approval from the Office of Management and Budget and can be accessed by the public at the following website: www.joinseniorservice.org.

Copies of the information collection request can be obtained by contacting the office listed below in the ADDRESSES section of this notice.

DATES: Written comments must be submitted to the office listed in the ADDRESSES section by June 10, 2002.

ADDRESSES: Send comments to the Corporation for National and Community Service, National Senior Service Corps, Attn: Peter L. Boynton, Program Officer, 1201 New York Avenue, NW, Washington, DC, 20525.

FOR FURTHER INFORMATION CONTACT: Peter L. Boynton, (202) 606-5000, ext. 499.

SUPPLEMENTARY INFORMATION: The Corporation is particularly interested in comments which:

• Evaluate whether the proposed collection of information is necessary for the proper performance of the functions of the Corporation, including whether the information will have practical utility;

• Evaluate the accuracy of the agency's estimate of the burden of the proposed collection of information, including the validity of the methodology and assumptions used;

• Enhance the quality, utility and clarity of the information to be collected; and

• Minimize the burden of the collection of information on those who are to respond, including the use of appropriate automated, electronic, mechanical, or other technological collection techniques or other forms of information technology, e.g., permitting electronic submissions of responses.

Background

Americans over the age of 50 are the fastest growing segment of the population, and the 60-plus population will double during the first quarter of this century. Concurrently, older Americans are one of the fastest growing cohorts utilizing the Internet for a myriad of purposes. A logical extension of these facts is that seniors will increasingly turn to the Internet to locate volunteer opportunities.

The Senior Corps' programs enroll Americans ages 55 and over, and more than 1,300 local Foster Grandparent, Senior Companion, and RSVP projects are engaged in ongoing volunteer recruitment. Many local Senior Corps project directors have indicated that a viable and identity-specific presence on the Internet would be beneficial to their recruitment efforts. The majority of Senior Corps projects indicate that they experience difficulties in recruiting, even with the expanding population of eligible participants. A web-based system can help to tap more efficiently into the target population.

The Corporation's current recruitment and communication vehicles with potential volunteers are outdated, inadequate, and expensive. Senior Corps has long relied on “paper products” such as brochures, posters, and fact sheets, in an increasingly electronic age. The number of “hits” on the Senior Corps pages of the Corporation web site (which increased more than 78% from 2000 to 2001), along with e-mail messages of interest, indicate that seniors are increasingly searching for opportunities online. The Corporation believes that Senior Corps is the appropriate entity to develop and launch such a vehicle. The success of the AmeriCorps national web-recruitment site, that uses an AmeriCorps OMB-approved application form, provides encouraging results that demonstrate how extensively potential volunteers and members of all ages are turning to the Internet to locate such opportunities.

Overview of “Join Senior Service Now”

Senior Corps volunteers serve with local projects of the Retired and Senior Volunteer Program (RSVP), the Foster Grandparent Program (FGP) and the Senior Companion Program (SCP). Individuals learn about these opportunities through a variety of means, including public service announcements, posters, advertisements, and visits to the Corporation's website and websites of local projects. These media and others will be used to direct interested individuals to the JASON website at www.joinseniorservice.org.

When they use JASON, prospective volunteers have the opportunity to find senior service projects of interest to them in two ways.

Fast Match. By using the system's “Fast Match” feature, individuals can search for projects by selecting the senior service program(s) they are interested in and providing their ZIP code and the distance they are willing to travel. They also have the option to narrow their search by selecting one or more areas of service and/or entering one or more key words. They receive a listing of opportunities within the Senior Corps grantee network that match their service, distance, and/or other specifications and preferences.

Registration. Individual seniors can also register with the system. Registration allows individuals the option of expressing interest in volunteering with senior service projects of their choosing and of sending certain information about themselves to the volunteer recruiters of those projects.

To register, individuals enter the following four required data elements into a web-based form: (1) An e-mail address where they can be contacted that also serves as their unique User ID; (2) a password of their choosing that must be correctly entered before allowing access to information; their current age by pre-defined age ranges and categories; and (4) the age at which they began volunteering. Individuals are required to provide their age because different programs have different minimum age requirements. After registering, prospective volunteers have two options. They may immediately complete their registration and search for volunteer opportunities by clicking on a “Register and Log-In” button. This takes them to a screen where they can use the “Fast Match” feature. However, unlike an unregistered user of Fast Match, the registered user is offered the opportunity to express their interest in volunteering directly to specific projects by way of an e-mail message generated automatically by the system. Their second option is to use the system's “Custom Match” feature.

Custom Match. If, after registering, an individual wishes to do so, he or she may complete an optional interest profile through an on-line form. The form has six parts, each serving a different purpose, and includes: (a) The names of the senior service programs the individual is interested in, (b) the volunteer's service interests, (c) the geographic areas where he or she wishes to serve, (d) the volunteer's general interests and skill information, (e) demographic information, (f) descriptive information and comments, and (g) contact information.

Items under (a), (b), (c), and (d) are used by the system in “Custom Matches,” where project information is matched to the individual's criteria. Demographic information under (e) is requested to help the Corporation understand the general aggregate profile of demographics of users, in particular, seniors using web-based tools. Descriptive information and comments provided in (f) are intended to allow a potential volunteer to tell the project's recruiter any additional information they wish to, as well as to provide the project and the Corporation with information on the effectiveness of various ways of advertising the website. Contact information in (g) is provided for the sole purpose of permitting the recruiter from projects to which the registrant has expressed interest to contact the individual about the particular volunteer opportunities they are interested in.

When prospective volunteers have finished filling out all or part of the profile, they save it and search for matching projects. When they use the “Custom Match” feature to identify opportunities and express interest in a volunteer opportunity, the e-mail message sent to the project will provide their e-mail address and whatever other contact information they have entered on the Volunteer Interest Profile form. It will also provide a link to their Volunteer Interest Profile so that the volunteer recruiters can view the information they have provided about themselves.

Current Action

The Corporation is seeking public comment pursuant to final approval of a web-based senior service recruitment system, called “Join Senior Service Now” (JASON), that will enable older Americans who are interested in volunteering to match their interests and talents with community homeland security and other critical community needs that have been identified by local National Senior Service Corps (Senior Corps) grant projects. This system was deployed on April 3, 2002 under emergency approval procedures and can be accessed by the public at the following website: www.joinseniorservice.org.

Type of Review: New information collection.

Agency: Corporation for National and Community Service.

Title: National Senior Service Corps “Join Senior Service Now” (JASON).

OMB Number: 3045-0078.

Agency Number: None.

Affected Public: Prospective senior volunteers.

Total Respondents: 2,340,000.

Frequency: At the discretion of respondents.

Average Time Per Response: 0.25 hours for initial response; 0.7 hours for subsequent responses.

Estimated Total Burden Hours: 413,400 hours.

Total Burden Cost (capital/startup): None.

Total Burden Cost (operating/maintenance): None

Comments submitted in response to this notice will be summarized and/or included in the request for Office of Management and Budget approval of the information collection request; they will also become a matter of public record.

Dated: April 4, 2002.
Tess Scannell,
Director, National Senior Service Corps.

[FR Doc. 02-8583 Filed 4-9-02; 8:45 am]

BILLING CODE 6050-$$-P